DEPARTMENT OF HEALTH AND HUMAN SERVICES

National Institutes of Health

Center for Scientific Review; Amended Notice of Meeting

Notice is hereby given of a change in the meeting of the Center for Scientific Review Special Emphasis Panel; July 15, 2014, 10:00 a.m. to July 15, 2014, 5:00 p.m., National Institutes of Health, 6701 Rockledge Drive, Bethesda, MD 20892 which was published in the Federal Register on June 16, 2014, 79 FR 34331.

The meeting will start at 9:00 a.m. and end at 5:00 p.m. The meeting date and location remain the same. The meeting is closed to the public.

Dated: June 17, 2014.
Michelle Trout,
Program Analyst, Office of Federal Advisory Committee Policy.

[FR Doc. 2014-14516 Filed 6-20-14; 8:45 am]

BILLING CODE 4140-01-P